NUCLEAR REGULATORY COMMISSION

[NRC-2012-0220]

Standard Review Plan for Fuel Cycle Facilities License Applications

AGENCY: Nuclear Regulatory Commission.

ACTION: NUREG; issuance.

SUMMARY: The U.S. Nuclear Regulatory Commission (NRC) is issuing NUREG-1520, Revision 2, “Standard Review Plan for Fuel Cycle Facilities License Applications,” dated June 2015.

ADDRESSES: Please refer to Docket ID NRC-2012-0220 when contacting the NRC about the availability of information regarding this document. You may obtain publicly-available information related to this document using any of the following methods:

• Federal Rulemaking Web site: Go to http://www.regulations.gov and search for Docket ID NRC-2012-0220. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. NUREG-1520, Revision 2, “Standard Review Plan for Fuel Cycle Facilities License Applications,” is available in ADAMS under accession number ML15176A258.

• NRC's PDR: You may examine and purchase copies of public documents at the NRC's PDR, Room O1-F21, One White Flint North, 11555 Rockville Pike, Rockville, Maryland 20852.

FOR FURTHER INFORMATION CONTACT: Soly I. Soto, Office of Nuclear Material Safety and Safeguards, U.S. Nuclear Regulatory Commission, Washington DC 20555-0001; telephone: 301-415-7528; email: Soly.Soto@nrc.gov.

SUPPLEMENTARY INFORMATION:

I. Discussion

Licenses to possess and use special nuclear material (SNM) are governed by Part 70 of Title 10 of the Code of Federal Regulations (10 CFR). The revised Standard Review Plan (SRP) now being made available provides NRC staff guidance for reviewing and evaluating the safety, health, security, and environmental protection aspects of applications for licenses to possess and use SNM at fuel cycle facilities.

The SRP has been revised to ensure consistency among the chapters, improve clarity of the text, reduce redundancies, and assure that statutory, regulatory, and guidance document references are accurate and up to date. Additionally, the SRP was revised to clarify the existing SRP discussion in several technical areas such as nuclear criticality safety and management measures, as summarized below. Chapter 5, “Nuclear Criticality Safety,” contains an expanded discussion of the double contingency principle and double contingency protection, including a description of what constitutes a loss of double contingency. Chapter 11, “Management Measures,” includes a discussion of graded management measures and the selection of items relied on for safety that relates to the application of graded management measures. Additionally, the SRP contains two new chapters, Chapter 12, “Material Control and Accounting,” which includes guidance associated with 10 CFR part 74 requirements; and Chapter 13, “Physical Protection,” which includes guidance associated with 10 CFR part 73 requirements. These new chapters were added to address the requirements in 10 CFR paragraphs 70.22(b), (g), (h), (j), and (k). The title of the SRP was revised from “Standard Review Plan for the Review of a License Application for a Fuel Cycle Facility” to “Standard Review Plan for License Applications for Fuel Cycle Facilities.”

On June 5, 2014 (79 FR 32579), the NRC announced the availability of draft NUREG-1520, Revision 2, and requested comments on it. The comment period originally closed on September 3, 2014. In a second notice, dated August 6, 2014 (79 FR 45849), the NRC extended the comment period to November 3, 2014. A public meeting with the industry was held on September 23, 2014, to discuss the proposed changes to the SRP. A comment resolution table listing all comments and the NRC staff's responses was made publicly available in ADAMS on March 23, 2015 (ML15065A286). Suggestions to improve the SRP were considered by the NRC staff in the preparation of the final NUREG report. After further consideration, the NRC staff revised the title of NUREG-1520, Revision 2, for final issuance. This change was performed after publication of the comments resolution. The title was revised from “Standard Review Plan for License Applications for Fuel Cycle Facilities” to “Standard Review Plan for Fuel Cycle Facilities License Applications.”

The final version of NUREG-1520, Revision 2, is now available for use by applicants, licensees, NRC license reviewers, and other NRC staff. Revision 2 supersedes the last official revision published on May 2010.

Dated at Rockville, Maryland, this 26th day of June, 2015.
For the Nuclear Regulatory Commission.
Marissa G. Bailey,
Director, Division of Fuel Cycle Safety, Safeguards, and Environmental Review Office of Nuclear Material Safety and Safeguards.

[FR Doc. 2015-16363 Filed 7-1-15; 8:45 am]

BILLING CODE 7590-01-P